DEPARTMENT OF COMMERCE

International Trade Administration

[C-533-844]

Certain Lined Paper Products From India: Final Results of Countervailing Duty Administrative Review; 2016

AGENCY: Enforcement and Compliance, International Trade Administration, Department of Commerce.

SUMMARY: The Department of Commerce (Commerce) determines that countervailable subsidies are being provided to Goldenpalm Manufacturers Pvt. Limited (Goldenpalm), a producer/exporter of certain lined paper products (lined paper) from India for the period of review January 1, 2016, through December 31, 2016.

DATES: Applicable May 23, 2019.

FOR FURTHER INFORMATION CONTACT: John Conniff, AD/CVD Operations, Office III, Enforcement and Compliance, International Trade Administration, U.S. Department of Commerce, 1401 Constitution Avenue NW, Washington, DC 20230; telephone: (202) 482-1009.

Background

Commerce published the Preliminary Results of this administrative review on October 10, 2018.¹ Commerce exercised its discretion to toll all deadlines affected by the partial federal government closure from December 22, 2018, through the resumption of operations on January 29, 2019.² On March 5, 2019, we postponed the final results of review by 57 days, until May 15, 2019.³ Based on an analysis of the comments received, Commerce has made certain changes to the subsidy rate listed in the Preliminary Results. The final subsidy rate is listed in the “Final Results of Administrative Review” section below.

¹ See Certain Lined Paper Products from India: Preliminary Results of Countervailing Duty Administrative Review; Calendar Year 2016, 83 FR 50896 (October 10, 2018) (Preliminary Results) and accompanying Preliminary Decision Memorandum.

² See Memorandum to the Record from Gary Taverman, Deputy Assistant Secretary for Antidumping and Countervailing Duty Operations, performing the non-exclusive functions and duties of the Assistant Secretary for Enforcement and Compliance, “Deadlines Affected by the Partial Shutdown of the Federal Government,” ' dated January 28, 2019. All deadlines in this segment of the proceeding have been extended by 40 days.

³ See Memorandum, “Extension of Deadline for Final Results of Countervailing Duty Review,” dated March 5, 2019.

Scope of the Order

The products covered by the order are certain lined paper products from India. For a full description of the scope, see the Issues and Decision Memorandum.⁴

⁴ See Memorandum, “Decision Memorandum for the Final Results of Administrative Review; 2016: Certain Lined Paper Products from India,” dated concurrently with, and hereby adopted by, this notice (Issues and Decision Memorandum).

Analysis of Comments Received

The issues raised by the Government of India, Goldenpalm, and the petitioner ⁵ in their case and rebuttal briefs are addressed in the Issues and Decision Memorandum. The issues are identified in the Appendix to this notice. The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be accessed directly at http://trade.gov/enforcement/frn/. The signed Issues and Decision Memorandum and electronic version of the Issues and Decision Memorandum are identical in content.

⁵ The petitioner is the American Association of School Paper Suppliers.

Changes Since the Preliminary Results

Based on comments received from interested parties, we have continued to apply adverse facts available (AFA) pursuant to sections 776(a) and (b) of the Tariff Act of 1930, as amended (the Act) to Goldenpalm, and to the GOI in various respects, but we have revised the AFA program rate assigned to Goldenpalm under the Government of Tamil Nadu's Capital Subsidies and Electricity Tax Exemption program. For a discussion of this and other issues, see the Issues and Decision Memorandum.

Methodology

We conducted this review in accordance with section 751(a)(1)(A) of the Act. For each of the subsidy programs found countervailable, we find that there is a subsidy, i.e., a government-provided financial contribution that gives rise to a benefit to the recipient, and that the subsidy is specific.⁶ For a full description of the methodology underlying our conclusions, including any determination that relied upon the use of AFA pursuant to sections 776(a) and (b) of the Act, see the Issues and Decision Memorandum.

⁶ See sections 771(5)(B) and (D) of the Act regarding financial contribution; section 771(5)(E) of the Act regarding benefit; and, section 771(5A) of the Act regarding specificity.

Final Results of Administrative Review

In accordance with section 777A(e) of the Act and 19 CFR 351.221(b)(5), we find that the following net countervailable subsidy rate exists for the mandatory respondent, Goldenpalm, for the period January 1, 2016, through December 31, 2016:

Manufacturer/exporter | Subsidy rate (percent ad valorem)
Goldenpalm Manufacturers Pvt. Limited | 197.33

Assessment and Cash Deposit Requirements

In accordance with 19 CFR 351.212(b)(2), we intend to issue appropriate assessment instructions to Customs and Border Protection (CBP) 15 days after publication of the final results of this review. We will instruct CBP to liquidate shipments of subject merchandise produced and/or exported by the company listed above, entered or withdrawn from warehouse, for consumption from January 1, 2016, through December 31, 2016, at the ad valorem rate listed above.

Cash Deposit Requirements

We intend also to instruct CBP to collect cash deposits of estimated countervailing duties, in the amounts shown above for Goldenpalm, on shipments of subject merchandise entered, or withdrawn from warehouse, for consumption on or after the date of publication of the final results of this review. For all non-reviewed firms, we will instruct CBP to continue to collect cash deposits at the most-recent company-specific or all-others rate applicable to the company, as appropriate.⁷ Accordingly, the cash deposit requirements that will be applied to companies covered by this order, but not examined in this administrative review, are those established in the most recently completed segment of the proceeding for each company. These cash deposit requirements, when imposed, shall remain in effect until further notice.

⁷ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949, 56953 (September 28, 2006).

Administrative Protective Order

This notice also serves as a final reminder to parties subject to an administrative protective order (APO) of their responsibilities concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation which is subject to sanction.

These final results are issued and published in accordance with sections 751(a)(1) and 777(i)(1) of the Act.

Dated: May 15, 2019.
Jeffrey I. Kessler,
Assistant Secretary for Enforcement and Compliance.

APPENDIX

I. Summary

II. Background

III. Scope of the Order

IV. Use of Facts Otherwise Available and Application of Adverse Inferences

V. Analysis of Programs

VI. Analysis of Comments

Comment 1: Whether the Application of Adverse Facts Available (AFA) With Regard to Goldenpalm Was Warranted

Comment 2: Whether Commerce Upheld its Legal Obligations in Applying AFA With Regard to the Government of India (GOI)

Comment 3: Whether Commerce's Countervailable Determination Regarding the Duty Drawback Program (DDP) and Advance License Program (ALP) Properly Accounted for Information Submitted by the GOI

Comment 4: Whether Commerce's Countervailable Subsidy Determination Regarding the Export Promotion Capital Goods Scheme (EPCGS) Properly Accounted for Information Submitted by the GOI

Comment 5: Whether the Programs Operated by the State Government of Maharashtra (SGOM) and State Government of Tamil Nadu (SGOTN) are Specific

Comment 6: Whether it Was Lawful for Commerce to Examine Newly Alleged Subsidy Programs

Comment 7: Whether Commerce's Total AFA Rate for Goldenpalm is Incorrect

Comment 8: Whether the Calculated Subsidy Rates Commerce Utilized as the Basis of the AFA Rates Applied to Goldenpalm Were Appropriate

Comment 9: Whether Commerce Should Calculate an Additional AFA Rate for Subsidies Purportedly Discovered During the Course of the Review

Comment 10: Attribution of Benefits Goldenpalm Received Under the EPCGS in the Event Commerce Determines Not to Apply Total AFA to Goldenpalm in the Final Results

Comment 11: Whether Commerce Should Adjust the Assessment Rates Applied to the Importers of Record

Comment 12: Whether Commerce Should Issue the Final Results on an Expedited Basis

VII. Recommendation

[FR Doc. 2019-10802 Filed 5-22-19; 8:45 am]

BILLING CODE 3510-DS-P